DEPARTMENT OF TRANSPORTATION

Federal Aviation Administration

14 CFR Part 39

[Docket No. FAA-2020-1069; Project Identifier 2018-CE-039-AD]

RIN 2120-AA64

Airworthiness Directives; Daher Aerospace (Type Certificate Previously Held by SOCATA) Airplanes

AGENCY: Federal Aviation Administration (FAA), DOT.

ACTION: Notice of proposed rulemaking (NPRM).

SUMMARY: The FAA proposes to adopt a new airworthiness directive (AD) for certain Daher Aerospace (type certificate previously held by SOCATA) Model TBM 700 airplanes. This proposed AD results from mandatory continuing airworthiness information (MCAI) originated by an aviation authority of another country to identify and correct an unsafe condition on an aviation product. The unsafe condition that is the subject of the MCAI is ice accumulation on the oil cooler air inlet duct fin. This proposed AD would require modifying the oil cooler air induction duct. The FAA is proposing this AD to address the unsafe condition on these products.

DATES: The FAA must receive comments on this proposed AD by October 4, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12 140, 1200 New Jersey Avenue SE, Washington, DC 20590.

• Hand Delivery: Deliver to Mail address above between 9 a.m. and 5 p.m., Monday through Friday, except Federal holidays.

For service information identified in this NPRM, contact Daher Aerospace, 601 NE 10 Street, Pompano Beach, FL 33060; phone: +1 (954) 366-3331; email: TBMCare@daher.com; website: https://www.daher.com/en/aircraft-manufacturer/customer-service/. You may view this service information at the FAA, Airworthiness Products Section, Operational Safety Branch, 901 Locust, Kansas City, MO 64106. For information on the availability of this material at the FAA, call (816) 329-4148.

Examining the AD Docket

You may examine the AD docket at https://www.regulations.gov by searching for and locating Docket No. FAA-2020-1069; or in person at Docket Operations between 9 a.m. and 5 p.m., Monday through Friday, except Federal holidays. The AD docket contains this NPRM, the MCAI, any comments received, and other information. The street address for Docket Operations is listed above.

FOR FURTHER INFORMATION CONTACT: Greg Johnson, Aviation Safety Engineer, FAA, General Aviation & Rotorcraft Section, International Validation Branch, 901 Locust, Room 301, Kansas City, MO 64106; phone: (720) 626-5462; fax: (816) 329-4090; email: greg.johnson@faa.gov.

SUPPLEMENTARY INFORMATION:

Comments Invited

The FAA invites you to send any written relevant data, views, or arguments about this proposal. Send your comments to an address listed under the ADDRESSES section. Include “Docket No. FAA-2020-1069; Project Identifier 2018-CE-039-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Greg Johnson, Aviation Safety Engineer, FAA, General Aviation & Rotorcraft Section, International Validation Branch, 901 Locust, Room 301, Kansas City, MO 64106. Any commentary that the FAA receives which is not specifically designated as CBI will be placed in the public docket for this rulemaking.

Background

The European Aviation Safety Agency (EASA), which is the Technical Agent for the Member States of the European Union, has issued EASA AD 2018-0133, dated June 22, 2018, and corrected June 25, 2018 (referred to after this as “the MCAI”), to address the unsafe condition on certain Daher Aerospace (type certificate previously held by SOCATA) Model TBM 700 airplanes. The MCAI states:

During flight testing in icing conditions, oil temperature increase was observed. Subsequent investigation determined that the loss of efficiency of the oil cooler system was due to ice accumulation on the engine air induction duct fins.

This condition, if not corrected, could lead to uncommanded engine in-flight shut-down and reduced control of the aeroplane.

To address this potential unsafe condition, DAHER AEROSPACE developed MOD 70-0616-79 for aeroplanes in production, removing the 4 upper fins of the oil cooler air induction duct to avoid ice accumulation, available for in-service aeroplanes through the SB [Daher Aerospace Service Bulletin 70-254 79, dated April 18, 2018].

For the reasons described above, this [EASA] AD requires modification of the oil cooler air induction duct.

You may examine the MCAI in the AD docket at https://www.regulations.gov by searching for and locating Docket No. FAA-2020-1069.

Although the unsafe condition statement in the MCAI identifies the cause as ice accumulation on the engine air induction fin, the FAA has determined that this does not accurately identify the affected air path. The affected area is the oil cooler air inlet duct fin.

Related Service Information Under 1 CFR Part 51

The FAA reviewed Daher Aerospace Service Bulletin SB 70-254, dated April 2018. The service information specifies procedures for removing the four upper fins of the oil cooler air induction duct and for re-identifying the oil cooler air induction duct with a new part number. This service information is reasonably available because the interested parties have access to it through their normal course of business or by the means identified in the ADDRESSES.

Other Related Service Information

The FAA also reviewed Daher Aerospace Service Bulletin SB 70-231, Revision 1, dated July 2018; and Daher Aerospace Service Bulletin SB 70-219, Revision 2, dated July 2018. The service information identifies the kit number and installation procedures for replacing the oil cooler air induction duct.

FAA's Determination

This product has been approved by the aviation authority of another country, and is approved for operation in the United States. Pursuant to the FAA's bilateral agreement with this State of Design Authority, it has notified the FAA of the unsafe condition described in the MCAI and service information referenced above. The FAA is issuing this NPRM after determining the unsafe condition described previously is likely to exist or develop on other products of the same type design.

Proposed AD Requirements in This NPRM

This AD requires accomplishing the actions specified in the service information already described.

Costs of Compliance

The FAA estimates that this AD, if adopted as proposed, would affect up to 807 products of U.S. registry. The FAA also estimates that it would take about 3 work-hours per product to comply with the requirements of this proposed AD. The average labor rate is $85 per work-hour. Required parts would cost about $50 per product.

Based on these figures, the FAA estimates the total cost of the proposed AD on U.S. operators to be up to $246,135 at $305 per product.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Daher Aerospace (Type Certificate Previously Held by SOCATA): Docket No. FAA-2020-1069; Project Identifier 2018-CE-039-AD.

(a) Comments Due Date

The FAA must receive comments on this airworthiness directive (AD) by October 4, 2021.

(b) Affected ADs

None.

(c) Applicability

This AD applies to Daher Aerospace (type certificate previously held by SOCATA) Model TBM 700 airplanes, all serial numbers, certificated in any category, with an oil cooler air induction duct part number (P/N) T700A7920040001, T700H792000900000, T700H792001900000, T700H792001900200, T700H792001900400, or T700H792001900600 installed.

Note 1 to paragraph (c) of this AD: The applicable oil cooler air induction duct P/Ns may be installed in accordance with modification 70-0435-79; Daher Aerospace Service Bulletin SB 70-231, Revision 1, dated July 2018; or Daher Aerospace Service Bulletin SB 70-219, Revision 2, dated July 18, 2018.

(d) Subject

Joint Aircraft System Component (JASC) Code 7900, Engine Oil System (Airframe).

(e) Unsafe Condition

This AD was prompted by mandatory continuing airworthiness information (MCAI) originated by an aviation authority of another country to identify and correct an unsafe condition on an aviation product. The unsafe condition that is the subject of the MCAI is ice accumulation on the oil cooler air inlet duct fin. The FAA is issuing this AD to prevent ice from accumulating on the oil cooler air induction duct fins, which could lead to an increase in oil temperature, uncommanded engine inflight shutdown, and reduced airplane control.

(f) Compliance

Comply with this AD within the compliance times specified, unless already done.

(g) Modify the Oil Cooler Air Induction Duct

(1) Within 3 months after the effective date of this AD, remove the four upper fins of the oil cooler air induction duct and re-identify the oil cooler air induction duct in accordance with the Description of Accomplishment Instructions in Daher Aerospace Service Bulletin SB 70-254, dated April 2018.

(2) As of the effective date of this AD, do not install an oil cooler air induction duct P/N T700A7920040001, T700H792000900000, T700H792001900000, T700H792001900200, T700H792001900400, or T700H792001900600 on any airplane.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in Related Information or email: 9-AVS-AIR-730-AMOC@faa.gov.

(2) Before using any approved AMOC, notify your appropriate principal inspector, or lacking a principal inspector, the manager of the local flight standards district office/certificate holding district office.

(i) Related Information

(1) For more information about this AD, contact Greg Johnson, Aviation Safety Engineer, FAA, General Aviation & Rotorcraft Section, International Validation Branch, 901 Locust, Room 301, Kansas City, MO 64106; phone: (720) 626-5462; fax: (816) 329-4090; email: greg.johnson@faa.gov.

(2) Refer to European Aviation Safety Agency (EASA) AD 2018-0133, dated June 22, 2018, and corrected June 25, 2018, for more information. You may examine the EASA AD in the AD docket at https://www.regulations.gov by searching for and locating it in Docket No. FAA-2020-1069.

(3) For service information identified in this AD, contact Daher Aerospace, 601 NE 10 Street, Pompano Beach, FL 33060; phone: +1 (954) 366-3331; email: TBMCare@daher.com. You may view this referenced service information at the FAA, Airworthiness Products Section, Operational Safety Branch, 901 Locust, Kansas City, MO 64106. For information on the availability of this material at the FAA, call (816) 329-4148.

Issued on August 4, 2021.
Lance T. Gant,
Director, Compliance & Airworthiness Division, Aircraft Certification Service.

[FR Doc. 2021-17603 Filed 8-17-21; 8:45 am]

BILLING CODE 4910-13-P